DEPARTMENT OF TRANSPORTATION

Federal Highway Administration

Notice To Rescind a Notice of Intent To Prepare an Environmental Impact Statement: Dane County, Wisconsin

AGENCY: Wisconsin Department of Transportation (WisDOT), Federal Highway Administration (FHWA),DOT.

ACTION: Notice to Rescind a Notice of Intent to prepare an Environmental Impact Statement.

SUMMARY: A Notice of Intent (NOI) to prepare an Environmental Impact Statement (EIS) was published in the Federal Register Vol. 80, No. 65, April 6, 2015 to advise the public that FHWA and WisDOT would prepare an Environmental Impact Statement (EIS) for a proposed freeway interchange improvement project on Interstate I-39/90 at the I-39/90 and US 12/18 interchange (Beltline Interchange) and adjacent local road systems in the City of Madison, Dane County, Wisconsin. The FHWA is issuing this notice to advise the public that FHWA and WisDOT will no longer prepare an EIS for this interchange improvement project. FHWA and WisDOT will prepare an Environmental Assessment (EA) for a proposed improvement project with reduced scope and impacts.

FOR FURTHER INFORMATION CONTACT: Johnny Gerbitz, Field Operations Engineer, Federal Highway Administration, 525 Junction Road, Suite 8000, Madison, Wisconsin 53717-2157, Telephone: (608) 829-7500. You may also contact Jay Waldschmidt, Environmental Process and Documentation Section, Bureau of Technical Services, Wisconsin Department of Transportation, P.O. Box 7965, Madison, Wisconsin 53707-7965, Telephone: (608) 267-9800.

SUPPLEMENTARY INFORMATION: The FHWA, in cooperation with the Wisconsin Department of Transportation (WisDOT), will no longer be preparing an EIS for proposed improvements at the I-39/90 and US 12/18 interchange (Beltline Interchange) and adjacent local road systems. This change occurred because of a change in priorities at WisDOT. An EA will be prepared for a proposed improvement project at this location with reduced scope. The agency coordination process outlined in 23 CFR 771.119 will be followed for the EA. Comments and questions concerning this action should be directed to FHWA or WisDOT at the addresses provided above.

Authority: This notice is published in accordance with the Federal-Aid Highway Act, as amended (23 U.S.C. 109 et seq.), the Council on Environmental Quality's Regulations (40 CFR parts 1500—1508) implementing the procedural requirements of the National Environmental Policy Act (NEPA), as amended (42 U.S.C. 4321 et seq.), and FHWA's NEPA implementing regulations (23 CFR part 771).

Issued on: January 22, 2018.
Timothy Marshall,
Acting Division Administrator, Federal Highway Administration, Madison, Wisconsin.

[FR Doc. 2018-01569 Filed 1-26-18; 8:45 am]

BILLING CODE 4910-22-P